DEPARTMENT OF HOMELAND SECURITY

Transportation Security Administration

[Docket No. TSA-2002-11602]

Extension of Agency Information Collection Activity Under OMB Review: Security Programs for Foreign Air Carriers

AGENCY: Transportation Security Administration, DHS.

ACTION: 30-day Notice.

SUMMARY: This notice announces that the Transportation Security Administration (TSA) has forwarded the Information Collection Request (ICR), Office of Management and Budget (OMB) control number 1652-0005, abstracted below to OMB for review and approval of an extension of the currently approved collection under the Paperwork Reduction Act (PRA). The ICR describes the nature of the information collection and its expected burden. TSA published a Federal Register notice, with a 60-day comment period soliciting comments, of the following collection of information on May 22, 2013, (78 FR 30319). This information collection is mandatory for foreign air carriers and must be submitted prior to entry into the United States.

DATES: Send your comments by August 30, 2013. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974. or when OMB back to accepting mail: [Mail your comments to the Office of Information and Regulatory Affairs, Office of Management and Budget, 725 17th Street NW., Washington, DC 20503, Attention: DHS-TSA Desk Officer.]

FOR FURTHER INFORMATION CONTACT: Susan L. Perkins, TSA PRA Officer, Office of Information Technology (OIT), TSA-11, Transportation Security Administration, 601 South 12th Street, Arlington, VA 20598-6011; telephone (571) 227-3398; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Programs for Foreign Air Carriers.

Type of Request: Extension of a currently approved collection.

OMB Control Number: 1652-0005.

Form(s): N/A.

Affected Public: Foreign air carriers.

Abstract: OMB Control Number 1652-0005; Security Programs for Foreign Air Carriers, 49 CFR part 1546. TSA uses the information collected to determine compliance with 49 CFR part 1546 and to ensure passenger safety by monitoring foreign air carrier security procedures. Foreign air carriers must carry out security measures to provide for the safety of persons and property traveling on flights provided by the foreign air carrier against acts of criminal violence and air piracy, and the introduction of explosives, incendiaries, or weapons aboard an aircraft. This information collection is mandatory for foreign air carriers and must be submitted prior to entry into the United States. The information TSA collects includes identifying information on foreign air carriers' flight crews and passengers. Specifically, TSA requires foreign air carriers to submit the following information: (1) A master crew list of all flight and cabin crew members flying to and from the United States; (2) the flight crew list on a flight-by-flight basis; (3) passenger information on a flight-by-flight basis; and (4) total amount of cargo screened. Foreign air carriers are required to provide this information via electronic means. Foreign air carriers with limited electronic systems may need to modify their current systems or develop a new computer system in order to submit the requested information. Additionally, foreign air carriers must maintain these records, as well as training records for crew members and individuals performing security-related functions, and make them available to TSA for inspection upon request. TSA will continue to collect information to determine foreign air carrier compliance with other requirements of 49 CFR part 1546.

Number of Respondents: 170.

Estimated Annual Burden Hours: An estimated 1,029,010 hours annually.

Dated: June 24, 2013.
Susan L. Perkins,
TSA Paperwork Reduction Act Officer, Office of Information Technology.

[FR Doc. 2013-18344 Filed 7-30-13; 8:45 am]

BILLING CODE 9110-05-P